DEPARTMENT OF HEALTH AND HUMAN SERVICES

Centers for Disease Control and Prevention

Notice of Correction

In the Federal Register of April 10, 2003, Volume 68, Number 69, Page 17654 the following should read as follows:

Correction

Name: Board of Scientific Counselors, National Center for Infectious Diseases: Meeting.

Time and Date: 8:30 a.m.-3:30 p.m., May 2, 2003.

Place: CDC, Auditorium B, Building 1, 1600 Clifton Road, Atlanta, Georgia 30333.

Due to programmatic issues the corrected Federal Register notice is being published less than fifteen days before the meeting.

Contact Person for More Information: Tony Johnson, Office of the Director, NCID, CDC, Mailstop E-51, 1600 Clifton Road, NE., Atlanta, Georgia 30333, e-mail tjohnson3@cdc.gov; telephone 404/498-3249.

The Director, Management Analysis and Services Office, has been delegated the authority to sign Federal Register notices pertaining to announcements of meetings for both the Centers for Disease Control and Prevention and the Agency for Toxic Substances and Disease Registry.

Dated: April 29, 2003.
Alvin Hall,
Director, Management Analysis and Services Office, Centers for Disease Control and Prevention.

[FR Doc. 03-10976 Filed 5-1-03; 10:11 am]

BILLING CODE 4163-18-P